DEPARTMENT OF THE INTERIOR

Fish and Wildlife Service

50 CFR Part 17

[Docket No. FWS-R9-ES-2012-0013; FWS-R9-ES-2011-0101; 4500030115]

RIN 1018-AY38; 1018-AY33

Endangered and Threatened Wildlife and Plants; Listing Three Foreign Macaw Species

AGENCY: Fish and Wildlife Service, Interior.

ACTION: Proposed rule; reopening of comment periods.

SUMMARY: We, the U.S. Fish and Wildlife Service (Service), announce the reopening of the public comment period on two proposed rules: one to list the hyacinth macaw (Anodorhynchus hyacinthinus), and one to list the military macaw (Ara militaris) and great green macaw (Ara ambiguus) as endangered under the Endangered Species Act of 1973, as amended (Act). Both rules were published in the Federal Register on July 6, 2012. We are reopening the comment periods to allow all interested parties an opportunity to provide additional comments on these proposed rules and to submit information on the status of the species. Comments previously submitted need not be resubmitted, as they will be fully considered in preparation of the final rule.

DATES: We will accept comments received on or before April 22, 2013. Comments submitted electronically using the Federal eRulemaking Portal (see ADDRESSES section, below) must be received by 11:59 p.m. Eastern Time on the closing date.

ADDRESSES: You may submit comments by one of the following methods:

• Federal eRulemaking Portal: http://www.regulations.gov. Follow the instructions for submitting comments to Docket No. FWS-R9-ES-2012-0013 for the hyacinth macaw, and to Docket No. FWS-R9-ES-2011-0101 for the military macaw and great green macaw.

• U.S. mail or hand-delivery: For the hyacinth macaw: Public Comments Processing, Attn: FWS-R9-ES-2012-0013; Division of Policy and Directives Management; U.S. Fish and Wildlife Service; 4401 N. Fairfax Drive, Suite 222; Arlington, VA 22203. For the military macaw and great green macaw: Public Comments Processing, Attn: FWS-R9-ES-2011-0101; Division of Policy and Directives Management; U.S. Fish and Wildlife Service; 4401 N. Fairfax Drive, Suite 222; Arlington, VA 22203.

We will not accept comments by email or fax. We will post all comments on http://www.regulations.gov. This generally means that we will post any personal information you provide us (see Public Comments for more information).

FOR FURTHER INFORMATION CONTACT: Janine Van Norman, Chief, Branch of Foreign Species, Endangered Species Program, U.S. Fish and Wildlife Service, 4401 North Fairfax Drive, Room 420, Arlington, VA 22203; telephone 703-358-2171; facsimile 703-358-1735. If you use a telecommunications device for the deaf (TDD), call the Federal Information Relay Service (FIRS) at 800-877-8339.

SUPPLEMENTARY INFORMATION:

Background

On July 6, 2012, we published in the Federal Register a combined 12-month finding and proposed rule to list the hyacinth macaw (Anodorhynchus hyacinthinus) (77 FR 39965), and a combined 12-month finding and proposed rule to list two macaw species, the military macaw (Ara militaris) and great green macaw (Ara ambiguus) (77 FR 40172), as endangered under the Act (16 U.S.C. 1531 et seq.). These proposals each had a 60-day comment period, ending September 4, 2012. We received no requests for a public hearing on either of these two proposals; therefore, no public hearings will be held. However, we received several requests from the public to extend the comment period on these proposals. Therefore, we are reopening the comment periods on both of these proposed rules for an additional 60 days (see DATES).

Public Comments

We will accept written comments and information concerning these proposed rules during this reopened comment period. We will consider information and recommendations from all interested parties. We intend that any final action resulting from these proposals be as accurate as possible and based on the best available scientific and commercial data. For more information on the specific information we are seeking, please see the July 6, 2012, proposed listing rules (77 FR 39965; 77 FR 40172). If you previously submitted comments or information on the proposed rule, please do not resubmit them. We have incorporated them into the public record, and we will fully consider them in the preparation of our final determinations. Our final determinations concerning these proposed listings will take into consideration all written comments and any additional information we receive. You may submit your comments and materials by one of the methods listed in the ADDRESSES section. We will not accept comments sent by email or fax or to an address not listed in the ADDRESSES section. If you submit a comment via http://www.regulations.gov, your entire comment—including your personal identifying information—will be posted on the Web site. If you submit a hardcopy comment that includes personal identifying information, you may request at the top of your document that we withhold this information from public review. However, we cannot guarantee that we will be able to do so. We will post all hardcopy comments on http://www.regulations.gov.

Comments and materials we receive, as well as supporting documentation we used in preparing the proposed rule, will be available for public inspection on the Internet at http://www.regulations.gov at Docket No. FWS-R9-ES-2012-0013 for the hyacinth macaw, and at Docket No. FWS-R9-ES-2011-0101 for the military macaw and great green macaw, or by appointment, during normal business hours, at the Branch of Foreign Species (see FOR FURTHER INFORMATION CONTACT). You may obtain copies of the proposed rules on the Internet at http://www.regulations.gov at Docket No. FWS-R9-ES-2012-0013 for the hyacinth macaw, and at Docket No. FWS-R9-ES-2011-0101 for the military macaw and great green macaw, or by mail from the Branch of Foreign Species (see FOR FURTHER INFORMATION CONTACT).

Authority: The authority for this action is the Endangered Species Act of 1973, as amended (16 U.S.C. 1531 et seq.).

Dated: February 11, 2013.
Rowan W. Gould,
Director, U.S. Fish and Wildlife Service.

[FR Doc. 2013-03880 Filed 2-20-13; 8:45 am]

BILLING CODE 4310-55-P